DEPARTMENT OF THE TREASURY

Treasury Inspector General for Tax Administration; Privacy Act of 1974: Computer Matching Program

AGENCY: Treasury Inspector General for Tax Administration, Treasury.

ACTION: Notice.

SUMMARY: Pursuant to 5 U.S.C. 552a, the Privacy Act of 1974, as amended, notice is hereby given of the agreement between the Treasury Inspector General for Tax Administration (TIGTA) and the Internal Revenue Service (IRS) concerning the conduct of TIGTA's computer matching program.

DATES: Effective Date: April 5, 2012.

ADDRESSES: Comments or inquiries may be mailed to the Treasury Inspector General for Tax Administration, Attn: Office of Chief Counsel, 1401 H St. NW., Suite 469, Washington, DC 20005, or via electronic mail to Counsel.Office@tigta.treas.gov.

FOR FURTHER INFORMATION CONTACT: Office of Chief Counsel, Treasury Inspector General for Tax Administration, (202) 622-4068.

SUPPLEMENTARY INFORMATION: TIGTA's computer matching program assists in the detection and deterrence of fraud, waste, and abuse in the programs and operations of the IRS and related entities as well as protects against attempts to corrupt or interfere with tax administration. TIGTA's computer matching program is also designed to proactively detect and to deter criminal and administrative misconduct by IRS employees. Computer matching is the most feasible method of performing comprehensive analysis of data.

Name of Source Agency:

Internal Revenue Service.

Name of Recipient Agency:

Treasury Inspector General for Tax Administration.

Beginning and Completion Dates:

This program of computer matches is expected to commence on March 11, 2012, but not earlier than the fortieth day after copies of the Computer Matching Agreement are provided to the Congress and OMB unless comments dictate otherwise. The program of computer matches is expected to conclude on September 11, 2013.

Purpose:

This program is designed to deter and detect fraud, waste, and abuse in Internal Revenue Service programs and operations, to investigate criminal and administrative misconduct by IRS employees, and to protect against attempts to corrupt or threaten the IRS and/or its employees.

Authority: The Inspector General Act of 1978, 5 U.S.C. App. 3, and Treasury Order 115-01.

Categories of Individuals Covered:

Current and former employees of the Internal Revenue Service as well as individuals and entities about whom information is maintained in the systems of records listed below.

Categories of Records Covered:

Included in this program of computer matches are records from the following Treasury or Internal Revenue Service systems.

a. Treasury Payroll and Personnel System [Treasury/DO.001]

b. Treasury Child Care Tuition Assistance Records [Treasury/DO.003]

c. Public Transportation Incentive Program Records [Treasury/DO.005]

d. Treasury Financial Management Systems [Treasury/DO.009]

e. Correspondence Files and Correspondence Control Files [Treasury/IRS 00.001]

f. Correspondence Files: Inquiries About Enforcement Activities [Treasury/IRS 00.002]

g. Taxpayer Advocate Service and Customer Feedback and Survey Records System [Treasury/IRS 00.003]

h. Employee Complaint and Allegation Referral Records

[Treasury/IRS 00.007]

i. Third Party Contact Records [Treasury/IRS 00.333]

j. Stakeholder Relationship Management and Subject Files, Chief, Communications and Liaison [Treasury/IRS 10.004]

k. SPEC Taxpayer Assistance Reporting System (STARS) [Treasury/IRS 10.007]

l. Volunteer Records [Treasury/IRS 10.555]

m. Annual Listing of Undelivered Refund Checks [Treasury/IRS 22.003]

n. File of Erroneous Refunds [Treasury/IRS 22.011]

o. Foreign Information System (FIS) [Treasury/IRS 22.027]

p. Individual Microfilm Retention Register [Treasury/IRS 22.032]

q. Subsidiary Accounting Files [Treasury/IRS 22.054]

r. Automated Non-Master File (ANMF) [Treasury/IRS 22.060]

s. Information Return Master File (IRMF) [Treasury/IRS 22.061]

t. Electronic Filing Records [Treasury/IRS 22.062]

u. CADE Individual Master File (IMF) [Treasury/IRS 24.030]

v. CADE Business Master File (BMF) [Treasury/IRS 24.046]

w. Audit Under-reporter Case File [Treasury/IRS 24.047]

x. Acquired Property Records [Treasury/IRS 26.001]

y. Lien Files [Treasury/IRS 26.009]

z. Offer in Compromise (OIC) File [Treasury/IRS 26.012]

aa. Trust Fund Recovery Cases/One Hundred Percent Penalty Cases [Treasury/IRS 26.013]

bb. Record 21, Record of Seizure and Sale of Real Property [Treasury/IRS 26.014]

cc. Taxpayer Delinquent Account (TDA) Files [Treasury/IRS 26.019]

dd. Taxpayer Delinquency Investigation (TDI) Files [Treasury/IRS 26.020]

ee. Identification Media Files System for Employees and Other Issued IRS ID [Treasury/IRS 34.013]

ff. Security Clearance Files [Treasury/IRS 34.016]

gg. Personnel Security Investigations, National Background Investigations Center [Treasury/IRS 34.021]

hh. National Background Investigations Center Management Information System [Treasury/IRS 34.022]

ii. IRS Audit Trail and Security Records System [Treasury/IRS 34.037]

jj. General Personnel and Payroll Records [Treasury/IRS 36.003]

kk. Practitioner Disciplinary Records [Treasury/IRS 37.007]

ll. Enrolled Agent and Enrolled Retirement Plan Agent Records [Treasury/IRS 37.009]

mm. Preparer Tax Identification Number Records [Treasury/IRS 37.111]

nn. Examination Administrative File [Treasury/IRS 42.001]

oo. Audit Information Management System (AIMS) [Treasury/IRS 42.008]

pp. Compliance Programs and Projects Files [Treasury/IRS 42.021]

qq. Anti-Money laundering/Bank Secrecy Act (BSA) and Form 8300 Records [Treasury/IRS 42.031]

rr. Appeals Centralized Data System [Treasury/IRS 44.003]

ss. Criminal Investigation Management Information System [Treasury/IRS 46.002]

tt. Automated Information Analysis System [Treasury/IRS 46.050]

uu. Tax Exempt/Government Entities (TE/GE) Case management Records [Treasury/IRS 50.222]

vv. Employee Protection System Records [Treasury/IRS 60.000]

ww. Chief Counsel Management Information System Records [Treasury/IRS 90.001]

Dated: February 27, 2012.
Melissa Hartman,
Deputy Assistant Secretary, Privacy, Transparency, and Records.

[FR Doc. 2012-5435 Filed 3-5-12; 8:45 am]

BILLING CODE 4810-04-P